NUCLEAR REGULATORY COMMISSION

[Docket No. 50-133]

Environmental Assessment and Finding of No Significant Impact Related to Issuance of Exemption for the Humboldt Bay Power Plant Unit 3, License DPR-007, Humboldt, California

AGENCY: U.S. Nuclear Regulatory Commission.

ACTION: Environmental Assessment and Finding of No Significant Impact.

FOR FURTHER INFORMATION CONTACT: John Hickman, Division of Waste Management and Environmental Protection, Office of Federal and State Materials and Environmental Management Programs, U.S. Nuclear Regulatory Commission, Mail Stop: T8F5, Washington, DC 20555-0001. Telephone: (301) 415-3017; e-mail john.hickman@nrc.gov.

SUPPLEMENTARY INFORMATION:

I. Introduction

The U.S. Nuclear Regulatory Commission (NRC) staff is considering a request dated November 5, 2007, by the Pacific Gas and Electric Company (PG&E or the Licensee), to approve a request for exemption from the requirements set forth in 10 CFR 50.54(p) and 10 CFR Part 73. The requested exemptions from the security requirements for Humboldt Bay Power Plant (HBPP) would be effective after the spent fuel has been removed from the reactor site by the licensee and relocated to the new Independent Spent Fuel Storage Installation (ISFSI).

This Environmental Assessment (EA) has been developed in accordance with the requirements of 10 CFR 51.21.

II. Environmental Assessment

Background

HBPP was permanently shut down in July 1976, and until recently was in safe storage condition (SAFSTOR). SAFSTOR is defined as a method of decommissioning in which the nuclear facility is placed and maintained in safe condition for an extended period of time to permit radioactive material to decay to levels that facilitate subsequent decontamination and decommissioning of the facility. A decommissioning plan was approved in July 1988. Subsequent to the 1997 decommissioning rule, the licensee converted its decommissioning plan into its Defueled Safety Analysis Report which is updated every two years. A Post Shutdown Decommissioning Activities Report was issued by the licensee in February 1998. On September 2, 2005, the NRC approved the HB ISFSI Physical Security Plan (PSP) that PG&E submitted on July 11, 2005. On November 17, 2005, the NRC issued Materials License SNM-2514 for the HBPP ISFSI that included approval of the HBPP ISFSI PSP. In approving the Humboldt Bay ISFSI PSP, the NRC found that the plan meets the security requirements in 10 CFR Part 72 Subpart H, “Physical Protection,” meets the requirements in 10 CFR 73.51, “Requirements for the Physical Protection of Stored Spent Nuclear Fuel and High-Level Radioactive Waste,” and provides reasonable assurance that physical protection of the spent nuclear fuel stored at the ISFSI will not constitute an unreasonable risk to public health and safety. Currently, the licensee is maintaining the reactor security plan consistent with the requirements of 10 CFR Part 73 and 10 CFR 50.54(p). Contingent upon approval of the subject exemption and associated amendment, the ISFSI PSP will become effective upon the complete transfer of spent nuclear fuel from the spent fuel pool to the ISFSI.

Proposed Action

The proposed action would eliminate the security plan requirements for the 10 CFR Part 50 licensed site after the spent nuclear fuel has been transferred to the 10 CFR Part 72 licensed ISFSI.

Need for Proposed Action

Sections 50.54(p) and Part 73 of Title 10 of the Code of Federal Regulations require that reactor licensees establish and maintain physical protection and security for activities involving nuclear fuel within the 10 CFR Part 50 licensed area of a facility. The proposed action is needed because there will no longer be any nuclear fuel in the 10 CFR Part 50 licensed facility to protect against radiological sabotage or diversion after the transfer of the spent nuclear fuel to the HBPP ISFSI. Subpart H of 10 CFR Part 72 establishes the physical protection requirements that will be applicable here, and relies on 10 CFR 73.51 to define the requirements for physical protection of spent nuclear fuel stored in an ISFSI under a specific license issued pursuant to 10 CFR Part 72. The HBPP ISFSI has a separate NRC approved security plan to protect the spent nuclear fuel stored there from radiological sabotage and diversion. The proposed action will allow the licensee to conserve resources for decommissioning activities.

III. Environmental Impacts of the Proposed Action

Radiological Impacts

The NRC has completed its evaluation of the proposed action and concludes that exempting the facility from certain security requirements will not have any adverse environmental impacts. There will be minor savings of energy and vehicular use associated with the security force no longer performing patrols, checks, and normal security functions.

The proposed action will not significantly increase the probability or consequences of accidents, no changes are being made in the types of any effluents that may be released off site, and there is no significant increase in occupational or public radiation exposure. Therefore, there are no significant radiological environmental impacts associated with the proposed action.

Non-Radiological Impacts

With regard to potential non-radiological impacts, the proposed action does not involve any historic sites. It does not affect non-radiological plant effluents and has no other environmental impact. Therefore, there are no significant non-radiological environmental impacts associated with the proposed action.

Cumulative Impacts

The NRC has determined that there are no adverse cumulative impacts associated with this proposed action.

Alternatives to the Proposed Action

The alternative to considering the exemption request for approval is to deny the request, which is equivalent to the no-action alternative. Denial of the application would result in no change in current environmental impacts. The environmental impacts of the proposed action and the alternative action are similar.

Agencies and Persons Consulted

The NRC contacted the California Radiologic Health Branch in the State Department of Health Services concerning this request. There were no comments, concerns or objections from the state official.

NRC staff determined that the proposed action is not a major decommissioning activity and will not affect listed or proposed endangered species, nor critical habitat. Therefore, no further consultation is required under Section 7 of the Endangered Species Act. Likewise, NRC staff determined that the proposed action is not the type of activity that has the potential to cause previously unconsidered effects on historic properties, as consultation for licensing of the ISFSI has been conducted previously. There are no additional impacts to historic properties associated with the change in security requirements. Therefore, no consultation is required under Section 106 of the National Historic Preservation Act.

IV. Finding of No Significant Impact

On the basis of this EA, the NRC concludes that the proposed action will not have a significant effect on the quality of the human environment. Accordingly, the NRC has determined that a finding of no significant impact is appropriate, and that preparation of an environmental impact statement is not warranted.

V. Further Information

For further information with respect to the proposed action, see the licensee's letter, “License Amendment Request 07-03, Deletion of Paragraph 2.C.1 of Facility Operating License No. DPR-7, Exemption from 10 CFR 50.54(p) and 10 CFR Part 73, and Rescission of NRC Orders EA-02-077 and EA-03-099,” November 5, 2007. (ML073120016).

The NRC Public Documents Room is located at NRC Headquarters in Rockville, Maryland, and can be contacted at (800) 397-4209. Documents may be examined, and/or copied for a fee, at the NRC's Public Document Room (PDR), located at One White Flint North, 11555 Rockville Pike (first floor), Rockville, Maryland. Publicly available records will be accessible electronically from the Agencywide Documents Access and Management System's (ADAMS) Public Library component on the NRC Web site, http://www.nrc.gov (the Public Electronic Reading Room).

Persons who do not have access to ADAMS or who encounter problems in accessing the documents located in ADAMS should contact the NRC PDR Reference staff by telephone at 1-800-397-4209, or 301-415-4737, or by e-mail at pdr@nrc.gov.

Dated at Rockville, Maryland, this 25th day of April, 2008.
For the Nuclear Regulatory Commission.
Keith I. McConnell,
Deputy Director, Decommissioning and Uranium Recovery Licensing Directorate, Division of Waste Management and Environmental Protection, Office of Federal and State Materials and Environmental Management Programs.

[FR Doc. E8-9937 Filed 5-5-08; 8:45 am]

BILLING CODE 7590-01-P